DEPARTMENT OF HEALTH AND HUMAN SERVICES

Centers for Disease Control and Prevention

[30Day-15-04]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Healthcare Provider Survey: Knowledge, Attitudes and Practices about Genital Human Papillomavirus (HPV) Infection and Related Conditions—New—National Center for HIV, STD, and TB Prevention (NCHSTP), Centers for Disease Control and Prevention (CDC). CDC is proposing to collect information to assess health care providers' knowledge, attitudes, and practices about genital human papillomavirus and related conditions. The survey will be conducted with a nationally representative sample of clinical specialties including physicians and mid-level health care providers.

Genital HPV infection is common among sexually active populations. An estimated 50 percent of sexually active adults have been infected with one or more genital HPV types, making this the most common sexually transmitted infection in the United States (Cates, 1999). Many health care providers may not be aware of data demonstrating the high prevalence of this sexually transmitted virus, the association of certain HPV types with various clinical manifestations including cervical and other anogenital cancers, or the type-specific natural history of HPV infection. To date, no nationally representative qualitative or quantitative surveys have measured health care providers' knowledge, attitudes, and practices about genital HPV infection.

CDC proposes to fill that gap through a survey of a national sample of clinicians who care for substantial numbers of sexually active patients at risk for acquiring HPV, infected with genital HPV, or that have at least one of two clinical manifestations of HPV infection, cervical neoplasia or anogenital warts. Respondents include primary care physicians, midlevel practitioners (nurse practitioners and physician's assistants), obstetricians/gynecologists (ob/gyn), nurse midwives, dermatologists, and urologists. There will be separate data collection instruments for primary care, obstetrics/gynecology, and dermatology/urology.

The survey will provide baseline information on practicing clinicians' knowledge, attitudes and practices concerning patients at risk for or infected with HPV. The survey findings will be used to help CDC and other organizations develop clinical training materials, decision support tools, and materials to counsel and educate patients.

Data collection will involve a mail survey of a stratified random sample of practicing clinicians and other healthcare providers. Sample stratification by specialty will allow specialty comparisons on knowledge, attitudes, and practices. The estimated annualized burden for this data collection is 2,282 hours.

Respondents | Number of respondents | Number of responses per respondent | Average burden per response (in hours)
Office Managers | 930 | 1 | 3/60
Primary Care:
Physicians | 1634 | 1 | 30/60
Mid-level | 1000 | 1 | 30/60
Ob/Gyn:
Physicians | 500 | 1 | 35/60
Nurse Midwives | 500 | 1 | 35/60
Dermatology/Urology:
Dermatologists | 500 | 1 | 20/60
Urologists | 500 | 1 | 20/60

Dated: January 6, 2004.
Alvin Hall,
Director, Management Analysis and Services Office, Centers for Disease Control and Prevention.

[FR Doc. 04-772 Filed 1-13-04; 8:45 am]

BILLING CODE 4163-18-P